FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 012067-005.

Title: U.S. Supplemental Agreement to HLC Agreement.

Parties: BBC Chartering & Logistics GmbH & Co. KG; Beluga Chartering GmbH; Chipolbrok; Clipper Project Ltd.; Hyndai Merchant Marine Co., Ltd.; Industrial Maritime Carriers, L.L.C.; Nordana Line A/S; and Rickmers-Linie GmbH & Cie. KG.

Filing Party: Wade S. Hooker, Esq.; 211 Central Park W, New York, NY 10024.

Synopsis: The adds Peter Dohle Schiffahrts KG as party to the HLC Agreement.

Agreement No.: 012157.

Title: CSCL/CMA CGM Slot Exchange Agreement Asia—U.S. East Coast.

Parties: China Shipping Container Lines Co., Ltd., China Shipping Container Lines (Hong Kong) Co., Ltd., and CMA CGM S.A.

Filing Party: Tara L. Leiter, Esquire; Blank Rome LLP; 600 New Hampshire Avenue NW.; Washington, DC 20037.

Synopsis: The agreement authorizes China Shipping and CMA to charter slots to each other on their vessels in the trade between the U.S. East and Gulf Coasts and Asia.

By Order of the Federal Maritime Commission.
Dated: February 24, 2012.
Karen V. Gregory,
Secretary.

[FR Doc. 2012-4858 Filed 2-28-12; 8:45 am]

BILLING CODE 6730-01-P